DEPARTMENT OF DEFENSE

Department of the Navy

Privacy Act of 1974; System of Records

AGENCY: Department of the Navy.

ACTION: Notice to add a system of records.

SUMMARY: The Department of the Navy proposes to add a system of records notice to its inventory of record systems subject to the Privacy Act of 1974 (5 U.S.C. 552a), as amended. The Navy is proposing to exempt the system of records to protect the objectivity or fairness of the test or examination process within the Naval Criminal Investigation Service.

DATES: This action will be effective on March 28, 2005, unless comments are received that would result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545 or DSN 325-6545.

SUPPLEMENTARY INFORMATION: The Department of the Navy's record system notices for records systems subject to the Privacy Act of 1974 (5 U.S.C. 552a), as amended, have been published in the Federal Register and are available from the address above.

The proposed system report, as required by 5 U.S.C. 552a(r) of the Privacy Act, was submitted on January 4, 2005, to the House Committee on Government Reform, the Senate Committee on Governmental Affairs, and the Office of Management and Budget (OMB) pursuant to paragraph 4c of Appendix I to OMB Circular No. A-130, ‘Federal Agency Responsibilities for Maintaining Records About Individuals,' dated February 8, 1996, (61 FR 6427, February 20, 1996).

Dated: February 18, 2005.
Jeannette Owings-Ballard,
OSD Federal Register Liaison Officer, Department of Defense.

N12410-2

System name:

NCIS Training Academy Records.

System location:

NCIS Training Academy, NCIS Townhouse 394 Federal Law Enforcement Training Center, Glynco, GA 31524-2002.

Categories of individuals covered by the system:

Students and instructors of the Naval Criminal Investigative Service (NCIS) Academy.

Categories of records in the system:

Individual Training Records: Name, Social Security Number, rank, e-mail address, duty station address, etc.; training evaluations (grades/scores) and indicating whether program was completed (either satisfactory or unsatisfactory); documentation of course completion; qualifications of students; waivers or exemptions requested or granted and verification of physical abilities (as required) either as a prerequisite or as a final qualification.

Instructor Training Records: Name, Social Security Number, rank, e-mail address, etc.; personal training history; attendance records; exemptions or waivers requested/granted; evaluations; qualification notifications; certifications; re-certifications; and verifications of ability.

Authority for maintenance of the system:

10 U.S.C. 5013, Secretary of the Navy and E.O. 9397 (SSN).

Purpose(s):

To maintain course and training demands, requirements and achievements; identify waivers or exemptions requested or granted, verify physical abilities required; document attendance and/or course completion, provide academic and performance evaluations and for other training administration requirements necessary to meet the Federal Law Enforcement Training Accreditation's (FLETA) requirements necessary for accreditation of the NCIS Training Academy.

Routine uses of records maintained in the system, including categories of users and the purposes of such uses:

In addition to those disclosures generally permitted under 5 U.S.C. 552a(b) of the Privacy Act, these records or information contained therein may specifically be disclosed outside to DoD as a routine use pursuant to 5 U.S.C. 552a(b)(3) as follows:

The DoD ‘Blanket Routine Uses' that appear at the beginning of the Navy's compilation of systems of records notices apply to this system.

Policies and practices for storing, retrieving, accessing, retaining, and disposing of records in the system:

Storage:

Paper and automated records.

Retrievability:

Name and Social Security Number.

Safeguards:

Manual records are maintained in file cabinets under the control of authorized personnel during working hours. The office space in which the file cabinets are located is locked outside of official working hours. Computer terminals are located in supervised areas. Access is controlled by password or other user code system.

Retention and disposal:

For student records: Retire hardcopy records to the Federal Records Center when 4 years old. Destroy 40 years after the end of the training year.

For instructor records: Destroy records 4 years after departure from Academy.

System manager(s) and address:

Deputy Assistant Director, Training, NCIS Training Academy, NCIS Townhouse 394 FLETC, Glynco, GA 31524-2002.

Notification procedure:

Individuals seeking to determine whether information about themselves is contained in this system should address written inquiries to Director, Naval Criminal Investigative Service Headquarters (Code 00LJF), 716 Sicard Street, SE., Suite 2000, Washington Navy Yard, DC 20388-5380.

Written requests should include the full name, Social Security Number, and address of the individual and be signed.

Record access procedures:

Individuals seeking access to information about themselves contained in this system of records should address written inquiries to Director, Naval Criminal Investigative Service Headquarters (Code 00LJF), 716 Sicard Street, SE., Suite 2000, Washington Navy Yard, DC 20388-5380.

Written requests should include the full name, Social Security Number and address of the individual and be signed.

Contesting record procedures:

The Navy's rules for accessing records, and for contesting contents and appealing initial agency determinations are published in Secretary of the Navy Instruction 5211.5; 32 CFR part 701; or may be obtained from the system manager.

Record source categories:

Individual; school and educational institutions, medical authorities, military agencies, instructors, and FLETA for instructor accreditation records.

Exemptions claimed for the system:

Testing or examination material used solely to determine individual qualifications for appointment or promotion in the Federal or military service, if the disclosure would compromise the objectivity or fairness of the test or examination process may be exempt pursuant to 5 U.S.C. 552a(k)(6), if the disclosure would compromise the objectivity or fairness of the test or examination process.

An exemption rule for this system has been promulgated in accordance with the requirements of 5 U.S.C. 553(b)(1), (2), and (3), (c) and (e) and published in 32 CFR part 701, subpart G. For additional information contact the system manager.

[FR Doc. 05-3671 Filed 2-24-05; 8:45 am]

BILLING CODE 5001-06-M